FEDERAL COMMUNICATIONS COMMISSION

47 CFR Part 73

[MB Docket No. 14-56, RM-11718; DA 14-1360]

Radio Broadcasting Services; Centerville, Texas

AGENCY: Federal Communications Commission.

ACTION: Final rule.

SUMMARY: The Audio Division, at the request of Bryan Broadcasting License Corporation, substitutes Channel 274A for vacant Channel 267A at Centerville, Texas, and grant the Application for Station KKEE, Centerville, Texas, File No. BMPH-20140324ADD. A staff engineering analysis indicates that Channel 274A can be allotted to Centerville, Texas consistent with the minimum distance separation requirements of the Commission's Rules with a site restriction located 4.3 kilometers (2.7 miles) east of Centerville. The reference coordinates are 31-15-00 NL and 95-56-00 WL.

DATES: Effective November 3, 2014.

ADDRESSES: Secretary, Federal Communications Commission, 445 12th Street SW., Washington, DC 20554.

FOR FURTHER INFORMATION CONTACT: Rolanda F. Smith, Media Bureau, (202) 418-2700.

SUPPLEMENTARY INFORMATION: This is a synopsis of the Report and Order, DA 14-1360, adopted September 18, 2014, and released September 19, 2014. The full text of this document is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1-800-378-3160 or via Web site at www.BCPIWEB.com. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Texas, is amended by removing Channel 267A at Centerville.

[FR Doc. 2014-23656 Filed 10-20-14; 8:45 am]

BILLING CODE 6712-01-P